DEPARTMENT OF HEALTH AND HUMAN SERVICES

Centers for Disease Control and Prevention

[60Day-21-21EK; Docket No. CDC-2021-0037]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled American Academy of Pediatrics (AAP) Neurodevelopmental Extension for Community Health Outcomes (ECHO)program on Children with Fetal Alcohol Spectrum Disorders (FASD). The purpose of this information collection is to monitor and evaluate the American Academy of Pediatrics (AAP) Neurodevelopmental Extension for Community Health Outcomes (ECHO) Program on Children with Fetal Alcohol Spectrum Disorders (FASD). The intent of the project is to improve practicing pediatrician capacity for identification and care of children with neurodevelopmental disorders, particularly prenatal exposure to alcohol, in the medical home.

DATES: CDC must receive written comments on or before June 15, 2021.

ADDRESSES: You may submit comments, identified by Docket No. CDC-2021-0037 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

American Academy of Pediatrics (AAP) Neurodevelopmental Extension for Community Health Outcomes (ECHO) Program on Children with Fetal Alcohol Spectrum Disorders (FASD)—New—National Center on Birth Defects and Developmental Disabilities (NCBDDD), Centers for Disease Control and Prevention (CDC).

Background and Brief Description

The purpose of this information collection is to monitor and evaluate the American Academy of Pediatrics (AAP) Neurodevelopmental Extension for Community Health Outcomes (ECHO) Program on Children with Fetal Alcohol Spectrum Disorders (FASD). The intent of the project is to improve practicing pediatrician capacity for identification and care of children with neurodevelopmental disorders, particularly prenatal exposure to alcohol, in the medical home.

Evaluation information will be used to monitor any incorporation of presented materials or suggestions from ECHO sessions into participating pediatric practices. Feedback also will inform any needed changes in topics, procedures, or other aspects of the program. The purpose and use of the session evaluation data will be to assure that specific information is conveyed and understood by participants for each monthly session, ongoing improvement in identification and referral by participating pediatricians, and to inform subsequent neurodevelopmental ECHO projects.

Data will be collected through secure email and will include monthly chart reviews, a monthly session evaluation survey, one overall program evaluation survey at the end of the project period, and one overall debriefing conference call at the end of the project. The target population is actively practicing pediatricians. Quantitative descriptive analyses are planned for the chart reviews. Qualitive data will be obtained from the session and program evaluation surveys, as well as the debriefing conference call. CDC requests approval for an estimated 496 annualized burden hours.

Estimated Annualized Burden Hours
Type of respondents | Form name | Number of respondents | Number of responses | Burden per response (minutes) | Burden in hours
Pediatricians | Chart Review | 15 | 160 | 12/60 | 480
Pediatricians | Session evaluation survey | 15 | 8 | 5/60 | 10
Pediatricians | Program evaluation survey | 15 | 1 | 5/60 | 1
Pediatricians | Debriefing conference call | 15 | 1 | 60/60 | 15
Total |  |  |  |  | 496

Jeffrey M. Zirger,
Lead, Information Collection Review Office, Office of Scientific Integrity, Office of Science, Centers for Disease Control and Prevention.

[FR Doc. 2021-07840 Filed 4-15-21; 8:45 am]

BILLING CODE 4163-18-P